ENVIRONMENTAL PROTECTION AGENCY

[EPA-HQ-OPP-2006-0955; FRL-9379-4]

Notice of Receipt of Request To Voluntarily Cancel Certain Pesticide Registrations

AGENCY: Environmental Protection Agency (EPA).

ACTION: Notice.

SUMMARY: In accordance with the Federal Insecticide, Fungicide, and Rodenticide Act (FIFRA), EPA is issuing a notice of receipt of requests by a registrant to voluntarily cancel certain pesticide registrations. EPA intends to issue a cancellation order granting these requests at the close of the comment period for this notice. If these requests are granted, any sale, distribution, or use of products listed in this notice will be permitted after the registration has been canceled only if such sale, distribution, or use is consistent with the terms as described in the final cancellation order.

DATES: Comments must be received on or before April 12, 2013.

ADDRESSES: Submit your comments, identified by docket identification (ID) number EPA-HQ-OPP-2006-0955, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001. ATTN: Rusty Wasem.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Rusty Wasem, Pesticide Re-Evaluation Division (7508P), Office of Pesticide Programs, Environmental Protection Agency, 1200 Pennsylvania Ave. NW., Washington, DC 20460-0001; telephone number: (703) 305-6979; email address: wasem.russell@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from Spectrum Group (Spectrum) to cancel five pesticide products registered under FIFRA section 3. These registrations are listed in sequence by registration number in Table 1 of this unit. The requests for voluntary cancellation were conditioned, for some of the products, on the effective date of cancellation and the Agency's allowance of certain sale and distribution of existing stocks of canceled product. At the end of the 30-day period identified above, EPA intends to issue an order in the Federal Register canceling all of the affected registrations in a manner consistent with the conditional nature of the request for cancellation.

Table 1—Registrations With Pending Requests for Cancellation
Registration No. | Product name | Chemical name
8845-39 | Rid-A-Rat and Mouse Killer | Warfarin.
8845-125 | Hot Shot Sudden Death Brand Mouse Killer | Bromethalin.
8845-126 | Hot Shot Sudden Death Brand Rat Killer 1 | Bromethalin.
8845-127 | Hot Shot Sudden Death Brand Mouse and Rat Killer | Bromethalin.
8845-128 | Hot Shot Sudden Death Brand Mouse Killer Bait Station | Bromethalin.

Table 2 of this unit includes the address of Spectrum.

Table 2—Registrant Requesting Voluntary Cancellation
EPA Company No. | Company name and address
8845 | Spectrum Group, A Division of United Industries, 1 Rider Trail Plaza Drive, Suite 300, Earth City, MO 63045.

III. What is the Agency's authority for taking this action?

Section 6(f)(1)(A) of FIFRA provides that a registrant of a pesticide product may, at any time, request that any of its pesticide registrations be canceled. FIFRA further provides that, before acting on the request, EPA must publish a notice of receipt of any such request in the Federal Register.

Section 6(f)(1)(B)(A) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The products listed in Table 1 of Unit II do not represent minor agricultural uses and thereby are not eligible for a 180-day comment period on their request for voluntary cancellation. In addition, Spectrum has requested that EPA waive any 180-day comment period. Accordingly, EPA will provide a 30-day comment period on the proposed requests.

IV. Provisions for Disposition of Existing Stocks

Existing stocks are those stocks of canceled pesticide products that are in the United States and that were appropriately packaged, labeled, and released for shipment prior to the effective date of cancellation of the underlying registration. It is EPA's intention to issue a cancellation order treating existing stocks after cancellation of the registrations identified in Table 1 as follows:

1. For product registered under EPA registration number 8845-127:

i. Cancellation of this registration will become effective on August 1, 2013. The registrant has agreed to a cap upon production of product between January 30, 2013, and July 31, 2013. All subsequent conditions are contingent on the registrant abiding by the terms of this production cap.

ii. The registrant will be permitted to sell and distribute stocks of 8845-127 until November 1, 2013. After November 1, 2013, the registrant will be prohibited from selling or distributing the product, except for export consistent with FIFRA section 17 or for proper disposal.

iii. Existing stocks may be sold and distributed by persons other than the registrant until the later of the following two dates:

a. September 1, 2014; or

b. The last date for which sales of rodenticide products (including existing stocks) registered by Reckitt Benckiser that are subject to the Notice of Intent to Cancel signed by EPA on January 29, 2013, remain legally permissible under FIFRA.

Users will be allowed to use existing stocks until such stocks are exhausted, provided that such use is consistent with the terms of the previously approved labeling on, or that accompanied, the canceled product.

2. For products registered under EPA registration numbers 8845-39, 8845-125, 8845-126, and 8845-128:

Cancellation of these registrations shall become effective on April 12, 2013. Upon cancellation, EPA intends to prohibit all sale or distribution of existing stocks of these products by any person, except for export consistent with FIFRA section 17, proper disposal, or return to the person from whom the product was purchased. Users will be allowed to use existing stocks until such stocks are exhausted, provided that such use is consistent with the terms of the previously approved labeling on, or that accompanied, the canceled product.

List of Subjects

Environmental protection, Pesticides and pests.

Dated: March 1, 2013.
Richard P. Keigwin, Jr.,
Director, Pesticide Re-Evaluation Division, Office of Pesticide Programs.

[FR Doc. 2013-05834 Filed 3-12-13; 8:45 am]

BILLING CODE 6560-50-P